DEPARTMENT OF EDUCATION

Applications for New Awards; Hispanic Serving Institutions Science, Technology, Engineering & Mathematics (HSI STEM) and Articulation Program; Correction

AGENCY: Office of Postsecondary Education, Department of Education.

ACTION: Notice; correction.

SUMMARY: On April 30, 2021, the Department of Education (Department) published in the Federal Register a notice inviting applications (NIA) for new awards for fiscal year (FY) 2021 for the HSI STEM and Articulation Program, Assistance Listing Number 84.031C. This notice corrects the Award Information and Eligibility Information sections of the NIA. All other information in the NIA, including the June 14, 2021, deadline for transmittal of applications, remains the same.

DATES: This correction is applicable May 21, 2021.

FOR FURTHER INFORMATION CONTACT: Jymece Seward, Office of Postsecondary Education, U.S. Department of Education, 400 Maryland Avenue SW, Room 2B159, Washington, DC 20202. Telephone: (202) 453-6138. Email: Jymece.Seward@ed.gov.

If you use a telecommunications device for the deaf or a text telephone, call the Federal Relay Service, toll free, at 1-800-877-8339.

SUPPLEMENTARY INFORMATION: On April 30, 2021, the Department published in the Federal Register the FY 2021 NIA for the HSI STEM and Articulation Program (86 FR 22947). This notice corrects the Award Information and Eligibility Information sections of the NIA. Specifically, we clarify that the estimated award dollar amounts are provided on a per year basis, and we correct the indirect cost rate information to specify that this program is subject to an unrestricted indirect cost rate.

All other information in the NIA, including the June 14, 2021, deadline for transmittal of applications, remains the same.

Corrections

In FR Document 2021-09079 appearing on page 22947 in the Federal Register of April 30, 2021, the following corrections are made:

1. On page 22949, in the third column, in the section entitled “Award Information”, add “per year” after “$700,000-$1,000,000”.

2. On page 22950, in the second line of the first column, add “per year” after “$775,000”.

3. On page 22950, in the fifth paragraph of the second column, after heading “b. Indirect Cost Rate Information”, remove the first sentence and add, in its place, “This program uses an unrestricted indirect cost rate.”

Program Authority: 20 U.S.C. 1067q(b)(2)(B).

Accessible Format: On request to the program contact listed under FOR FURTHER INFORMATION CONTACT, individuals with disabilities can obtain a copy of the application package in an accessible format. The Department will provide the requestor with and accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at: www.federalregister.gov. Specifically, through the advanced search feature at this site, you can limit your search to documents published by the Department.

Michelle Asha Cooper,
Acting Assistant Secretary for Postsecondary Education.

[FR Doc. 2021-10740 Filed 5-20-21; 8:45 am]

BILLING CODE 4000-01-P